ENVIRONMENTAL PROTECTION AGENCY

[EPA-HQ-ORD-2016-0632; FRL-9959-51-OEI]

Information Collection Request Submitted to OMB for Review and Approval; Comment Request; Willingness To Pay Survey To Evaluate Recreational Benefits of Nutrient Reductions in Coastal New England Waters (New)

AGENCY: Environmental Protection Agency (EPA).

ACTION: Notice.

SUMMARY: The Environmental Protection Agency has submitted an information collection request (ICR), “Willingness to Pay Survey to Evaluate Recreational Benefits of Nutrient Reductions in Coastal New England Waters (New)” (EPA ICR No. 2558.01, OMB Control No. 2080-NEW) to the Office of Management and Budget (OMB) for review and approval in accordance with the Paperwork Reduction Act. This is a request for approval of a new collection. Public comments were previously requested via the Federal Register (81 FR 78809) on 11/09/2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 13, 2017.

ADDRESSES: Submit your comments, referencing Docket ID Number EPA-HQ-ORD-2016-0632, to (1) EPA online using www.regulations.gov (our preferred method), by email to Docket_ORD@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Marisa Mazzotta, U.S. Environmental Protection Agency, Office of Research and Development, Atlantic Ecology Division, 27 Tarzwell Drive, Narragansett, Rhode Island 02882; telephone number: 401-782-3026; fax number: 401-782-3139; email address: mazzotta.marisa@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Researchers at the EPA's Office of Research and Development (ORD), Atlantic Ecology Division (AED) are piloting an effort to better understand how reduced water quality due to nutrient enrichment affects the economic prosperity, social capacity, and ecological integrity of coastal New England communities. This project proposes a survey to collect data for a case study of changes in recreation demand and values due to changes in nutrients in northeastern coastal waters. This includes the development of methods and tools for estimating recreational values that can be applied in other locations, either by EPA researchers, EPA's regional offices or state partners. Cape Cod is in the midst of an extensive regional planning effort related to its coastal waters, and this research can provide helpful socio-economic information to decision makers about the use of those waters. Because the 100-mile radius from Cape Cod includes a large area of southern New England and the largest population centers in New England, the results will be more broadly applicable to residents of southern New England.

One of the key water quality concerns on Cape Cod, and throughout New England, is nonpoint sources of nitrogen, which lead to ecological impairments in estuaries, with resultant socio-economic impacts. The decisions needed to meet water quality standards are highly complex and involve significant cross-disciplinary challenges in identifying, implementing, and monitoring social and ecological management needs. We will focus on understanding recreational uses as valued economic goods in coastal New England (including beachgoing, swimming, fishing, shellfishing, and boating).

Form Numbers: 6000-02 and 6000-03.

Respondents/affected entities: Individuals and Households.

Respondent's obligation to respond: Voluntary.

Estimated number of respondents: 2,455 (total).

Frequency of response: Once.

Total estimated burden: 205 hours (per year). Burden is defined at 5 CFR 1320.03(b).

Total estimated cost: $7,129 (per year), includes $0 annualized capital or operation & maintenance costs.

Changes in the Estimates: This is a new collection.

Courtney Kerwin,
Director, Collection Strategies Division.

[FR Doc. 2017-24446 Filed 11-9-17; 8:45 am]

BILLING CODE 6560-50-P